DEPARTMENT OF EDUCATION

Free Application for Federal Student Aid (FAFSA®) Information To Be Verified for the 2025-2026 Award Year; Correction

AGENCY: Office of Postsecondary Education, Department of Education.

ACTION: Notice; correction.

SUMMARY: The Department of Education published a document in the Federal Register of July 22, 2025, concerning the FAFSA information that an institution and an applicant may be required to verify, as well as the acceptable documentation for verifying FAFSA information. The document contained an incomplete sentence in the Supplementary Information.

FOR FURTHER INFORMATION CONTACT: Vanessa Gomez, (202) 453-6708. Email: Vanessa.Gomez@ed.gov.

SUPPLEMENTARY INFORMATION:

Correction

In the Federal Register of July 22, 2025, in FR Doc. 2025-13740, on page 34487, in the third paragraph, correct the paragraph to read:

In accordance with the Fostering Undergraduate Talent by Unlocking Resources for Education (FUTURE) Act, much of the applicant's tax return information, including information from their spouse and/or parents, will come directly from the IRS and will not be viewable by the student and other contributors. Such information that is transferred and not edited will be verified and need no further verification. However, for instances where income and tax information cannot be obtained directly from the IRS, the applicant will have to manually enter the necessary information into the FAFSA form, and that manual entry may be subject to verification.

Signing Authority: This document of the U.S. Department of Education was signed on September 8, 2025, by Christopher J. McCaghren, ED.D, Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of the Executive Secretariat, Office of the Secretary, U.S. Department of Education.

[FR Doc. 2025-17473 Filed 9-10-25; 8:45 am]

BILLING CODE 4000-01-P